DEPARTMENT OF HEALTH AND HUMAN SERVICES

Food and Drug Administration

[Docket No. FDA-2012-P-1189]

Canned Tuna Deviating From the Standard of Identity; Amendment of Temporary Marketing Permit

AGENCY: Food and Drug Administration, HHS.

ACTION: Notice.

SUMMARY: The Food and Drug Administration (FDA or we) is amending StarKist Seafood Company's temporary permit to market test canned tuna. The temporary permit is amended to add three additional manufacturing locations and to increase the amount of test product. This amendment will allow the applicant to continue to test market the test product and collect data on consumer acceptance of the test product.

FOR FURTHER INFORMATION CONTACT: Marjan Morravej, Center for Food Safety and Applied Nutrition (HFS-820), Food and Drug Administration, 5001 Campus Dr., College Park, MD 20740, 240-402-2371.

SUPPLEMENTARY INFORMATION: In the Federal Register of June 20, 2014 (79 FR 35362), we issued a notice announcing that we had issued a temporary permit to StarKist Seafood Company, 225 North Shore Dr., Pittsburgh, PA 15212, to market test products identified as canned tuna products. The permit allowed for the test product to be manufactured at Galapesca S.A., Km. 12.5 Via A Duale, Guayaquil, Ecuador, and StarKist Samoa Co., 368 Atu'u Rd., Pago Pago, American Samoa 96799. We issued the permit to facilitate market testing of products that deviate from the requirements of the standard of identity for canned tuna in 21 CFR 161.190, which was issued under section 401 of the Federal Food, Drug, and Cosmetic Act (21 U.S.C. 341).

In the Federal Register of March 7, 2016 (81 FR 11813), we issued a notice announcing that we were extending the temporary market permit issued to StarKist Seafood Company. The extension allows the applicants to continue to measure consumer acceptance of the products and assess the commercial feasibility of the products, in support of a petition to amend the standard of identity for canned tuna. The new expiration date of the permit will be either the effective date of a final rule amending the standard of identity for canned tuna that may result from the petition or 30 days after denial of the petition.

Under our regulations at 21 CFR 130.17(f), we are amending the temporary permit issued to StarKist Seafood Company, to allow the test product to be manufactured at three additional plants: Tropical Canning (Thailand) Public Co., LTD., 1/1 M.2 T.Thungyai, Hatyai, Songkhla 90110, Thailand; ISA Value Co., Ltd., 44/4 Moo1, Petchkasem Road, Yaicha, Sampran, Nakornpathom 73110, Thailand; and Tri-Marine (Solomon Islands), Soltuna Ltd., 1 Tuna Dr., Noro, Western Province, Solomon Islands. We are also amending the temporary permit to increase the amount of test product to be market tested to 213,500,000 pounds (96,841,971 kilograms) in retail cans of various sizes. All other conditions and terms of this permit remain the same.

Dated: February 26, 2021.
Lauren K. Roth,
Acting Principal Associate Commissioner for Policy.

[FR Doc. 2021-04607 Filed 3-4-21; 8:45 am]

BILLING CODE 4164-01-P